DEPARTMENT OF HOUSING AND URBAN DEVELOPMENT

[Docket No. FR-4809-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available .

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency and the property number.

For more information regarding particular properties identified in this Notice (i.e., acreage, floor plan, existing sanitary facilities, exact street address), providers should contact the appropriate landholding agencies at the following addresses: Air Force: Mr. Albert F. Lowas, Jr., Air Force Real Property Agency 1700 North Moore Street, Suite 2300, Arlington, VA 22209-2802; (703) 696-5501; Army: Ms. Julie Jones-Conte, Department of the Army, Office of the Assistant Chief of Staff for Installation Management, Attn: DAIM-MD, Room 1E677, 600 Army Pentagon, Washington, DC 20310-600; (703) 692-9223: Dot: Mr. Rugene Spruill, DOT Headquarters Project Team, Department of Transportation, 400 7th Street, SW, Room 10314, Washington, DC 20590; (202) 366-4246; Energy: Mr. Tom Knox, Department of Energy, Office of Engineering & Construction Management, CR-80, Washington, DC 20585; (202) 586-8715: (These are not toll-free numbers).

Dated: May 15, 2003.
John D. Garrity,
Director, Office of Special Needs Assistance Programs.

TITLE V, FEDERAL SURPLUS PROPERTY PROGRAM FEDERAL REGISTER REPORT FOR 5/23/03

Suitable/Available Properties

Buildings (by State)

Kansas

5 Bldgs.

Fort Leavenworth 00490, 00491, 00492, 00494, 00497

Ft. Leavenworth Co: KS 66048-

Landholding Agency: Army

Property Number: 21200320104

Status: Unutilized

Comment: 156 sq. ft., guard towers, off-site use only

Maryland

Bldg. 2273

Ft. George G. Meade

Ft. Meade Co: MD 20755-5115

Landholding Agency: Army

Property Number: 21200320105

Status: Unutilized

Comment: 54 sq. ft., most recent use—storage, off-site use only

Bldg. 2456

Ft. George G. Meade

Ft. Meade Co: MD 20755-5115

Landholding Agency: Army

Property Number: 21200320106

Status: Unutilized

Comment: 4720 sq. ft., presence of asbestos/lead paint, most recent use—clinic, off-site use only

Bldg. 00375

Aberdeen Proving Grounds

Aberdeen Co: Harford MD 21005-

Landholding Agency: Army

Property Number: 21200320107

Status: Unutilized

Comment: 64 sq. ft., most recent use—storage, off-site use only

Bldg. 0384A

Aberdeen Proving Grounds

Aberdeen Co: Harford MD 21005-

Landholding Agency: Army

Property Number: 21200320108

Status: Unutilized

Comment: 130 sq. ft., most recent use—ordnance facility, off-site use only

Bldg. 00385

Aberdeen Proving Grounds

Aberdeen Co: Harford MD 21005-

Landholding Agency: Army

Property Number: 21200320109

Status: Unutilized

Comment: 5517 sq. ft., most recent use—storage, off-site use only

Bldg. 0385A

Aberdeen Proving Grounds

Aberdeen Co: Harford MD 21005-

Landholding Agency: Army

Property Number: 21200320110

Status: Unutilized

Comment: 944 sq. ft., off-site use only

Bldg. 00442

Aberdeen Proving Grounds

Aberdeen Co: Harford MD 21005-

Landholding Agency: Army

Property Number: 21200320111

Status: Unutilized

Comment: 900 sq. ft., most recent use—storage, off-site use only

Bldg. 00443

Aberdeen Proving Grounds

Aberdeen Co: Harford MD 21005-

Landholding Agency: Army

Property Number: 21200320112

Status: Unutilized

Comment: 1488 sq. ft., off-site use only

Bldg. 00523

Aberdeen Proving Grounds

Aberdeen Co: Harford MD 21005-

Landholding Agency: Army

Property Number: 21200320113

Status: Unutilized

Comment: 3897 sq. ft., most recent use—paint shop, off-site use only

Bldg. 00524

Aberdeen Proving Grounds

Aberdeen Co: Harford MD 21005-

Landholding Agency: Army

Property Number: 21200320114

Status: Unutilized

Comment: 240 sq. ft., most recent use—storage, off-site use only

Bldg. 0645A

Aberdeen Proving Grounds

Aberdeen Co: Harford MD 21005-

Landholding Agency: Army

Property Number: 21200320115

Status: Unutilized

Comment: 64 sq. ft., most recent use—storage, off-site use only

Bldg. 00649

Aberdeen Proving Grounds

Aberdeen Co: Harford MD 21005-

Landholding Agency: Army

Property Number: 21200320116

Status: Unutilized

Comment: 1079 sq. ft., most recent use—storage, off-site use only

Bldg. 00650

Aberdeen Proving Grounds

Aberdeen Co: Harford MD 21005-

Landholding Agency: Army

Property Number: 21200320117

Status: Unutilized

Comment: 4215 sq. ft., most recent use—storage, off-site use only

Bldgs. 00654, 00655

Aberdeen Proving Grounds

Aberdeen Co: Harford MD 21005-

Landholding Agency: Army

Property Number: 21200320118

Status: Unutilized

Comment: 1110 sq. ft., off-site use only

Bldg. 00657

Aberdeen Proving Grounds

Aberdeen Co: Harford MD 21005-

Landholding Agency: Army

Property Number: 21200320119

Status: Unutilized

Comment: 1048 sq. ft., most recent use—bunker, off-site use only

Bldgs. 00679, 00705

Aberdeen Proving Grounds

Aberdeen Co: Harford MD 21005-

Landholding Agency: Army

Property Number: 21200320120

Status: Unutilized

Comment: 119/100 sq. ft., most recent use—safety shelter, off-site use only

Bldg. 0700B

Aberdeen Proving Grounds

Aberdeen Co: Harford MD 21005-

Landholding Agency: Army

Property Number: 21200320121

Status: Unutilized

Comment: 505 sq. ft., off-site use only

Bldg. 00741

Aberdeen Proving Grounds

Aberdeen Co: Harford MD 21005-

Landholding Agency: Army

Property Number: 21200320122

Status: Unutilized

Comment: 894 sq. ft., most recent use—storage, off-site use only

Bldg. 00768

Aberdeen Proving Grounds

Aberdeen Co: Harford MD 21005-

Landholding Agency: Army

Property Number: 21200320123

Status: Unutilized

Comment: 97 sq. ft., most recent use—observation bldg., off-site use only

Bldg. 00786

Aberdeen Proving Grounds

Aberdeen Co: Harford MD 21005-

Landholding Agency: Army

Property Number: 21200320124

Status: Unutilized

Comment: 1600 sq. ft., most recent use—ordnance bldg., off-site use only

Bldgs. 00900, 00911

Aberdeen Proving Grounds

Aberdeen Co: Harford MD 21005-

Landholding Agency: Army

Property Number: 21200320125

Status: Unutilized

Comment: 225/112 sq. ft., most recent use—safety shelter, off-site use only

Bldg. 01101

Aberdeen Proving Grounds

Aberdeen Co: Harford MD 21005-

Landholding Agency: Army

Property Number: 21200320126

Status: Unutilized

Comment: 6435 sq. ft., most recent use—storage, off-site use only

Bldg. 1102A

Aberdeen Proving Grounds

Aberdeen Co: Harford MD 21005-

Landholding Agency: Army

Property Number: 21200320127

Status: Unutilized

Comment: 1416 sq. ft., most recent use—storage, off-site use only

Bldg. 01113

Aberdeen Proving Grounds

Aberdeen Co: Harford MD 21005-

Landholding Agency: Army

Property Number: 21200320128

Status: Unutilized

Comment: 1012 sq. ft., off-site use only

Bldgs. 01124, 01132

Aberdeen Proving Grounds

Aberdeen Co: Harford MD 21005-

Landholding Agency: Army

Property Number: 21200320129

Status: Unutilized

Comment: 740/2448 sq. ft., most recent use—lab, off-site use only

Bldgs. 02373, 02378

Aberdeen Proving Grounds

Aberdeen Co: Harford MD 21005-

Landholding Agency: Army

Property Number: 21200320130

Status: Unutilized

Comment: 8359 sq. ft., most recent use—training, off-site use only

Bldg. 03328

Aberdeen Proving Grounds

Aberdeen Co: Harford MD 21005-

Landholding Agency: Army

Property Number: 21200320131

Status: Unutilized

Comment: 1628 sq. ft., most recent use—exchange, off-site use only

Bldg. 03512

Aberdeen Proving Grounds

Aberdeen Co: Harford MD 21005-

Landholding Agency: Army

Property Number: 21200320132

Status: Unutilized

Comment: 10,944 sq. ft., most recent use—storage, off-site use only

Bldg. 03558

Aberdeen Proving Grounds

Aberdeen Co: Harford MD 21005-

Landholding Agency: Army

Property Number: 21200320133

Status: Unutilized

Comment: 18,000 sq. ft., most recent use—storage, off-site use only

Bldgs. 05258, 05260

Aberdeen Proving Grounds

Aberdeen Co: Harford MD 21005-

Landholding Agency: Army

Property Number: 21200320135

Status: Unutilized

Comment: 10067 sq. ft., most recent use—storage, off-site use only

Bldgs. 05262

Aberdeen Proving Grounds

Aberdeen Co: Harford MD 21005-

Landholding Agency: Army

Property Number: 21200320136

Status: Unutilized

Comment: 864 sq. ft., most recent use—storage, off-site use only

Bldgs. 05608

Aberdeen Proving Grounds

Aberdeen Co: Harford MD 21005-

Landholding Agency: Army

Property Number: 21200320137

Status: Unutilized

Comment: 1100 sq. ft., most recent use—maint bldg., off-site use only

Bldgs. E1387

Aberdeen Proving Grounds

Aberdeen Co: Harford MD 21005-

Landholding Agency: Army

Property Number: 21200320138

Status: Unutilized

Comment: 433 sq. ft., most recent use—woodworking shop, off-site use only

Bldgs. E1415

Aberdeen Proving Grounds

Aberdeen Co: Harford MD 21005-

Landholding Agency: Army

Property Number: 21200320139

Status: Unutilized

Comment: 730 sq. ft., most recent use—lab, off-site use only

Bldgs. E1416

Aberdeen Proving Grounds

Aberdeen Co: Harford MD 21005-

Landholding Agency: Army

Property Number: 21200320140

Status: Unutilized

Comment: 120 sq. ft., most recent use—safety shelter, off-site use only

Bldgs. E1420, E1429

Aberdeen Proving Grounds

Aberdeen Co: Harford MD 21005-

Landholding Agency: Army

Property Number: 21200320141

Status: Unutilized

Comment: 220/150 sq. ft., most recent use—test range/storage, off-site use only

6 Bldgs.

Aberdeen Proving Grounds

Aberdeen Co: Harford MD 21005-

Location: E1432, E1444, E1446, E1447, E1449, E1453

Landholding Agency: Army

Property Number: 21200320142

Status: Unutilized

Comment: Various sq. ft., most recent use—range shelter, off-site use only

Bldgs. E1481, E1482

Aberdeen Proving Grounds

Aberdeen Co: Harford MD 21005-

Landholding Agency: Army

Property Number: 21200320143

Status: Unutilized

Comment: 100 sq. ft., most recent use—observation bldg., off-site use only

Bldg. E1484

Aberdeen Proving Grounds

Aberdeen Co: Harford MD 21005-

Landholding Agency: Army

Property Number: 21200320144

Status: Unutilized

Comment: 256 sq. ft., most recent use—admin., off-site use only

Bldgs. E2363, E2610

Aberdeen Proving Grounds

Aberdeen Co: Harford MD 21005-

Landholding Agency: Army

Property Number: 21200320145

Status: Unutilized

Comment: 138/133 sq. ft., most recent use—storage, off-site use only

Bldgs. E3328, E3540, E4261

Aberdeen Proving Grounds

Aberdeen Co: Harford MD 21005-

Landholding Agency: Army

Property Number: 21200320146

Status: Unutilized

Comment: Various sq. ft., most recent use—test facilities, off-site use only

Bldg. E5108

Aberdeen Proving Grounds

Aberdeen Co: Harford MD 21005-

Landholding Agency: Army

Property Number: 21200320147

Status: Unutilized

Comment: 5155 sq. ft., most recent use—recreation center, off-site use only

Bldg. E5483

Aberdeen Proving Grounds

Aberdeen Co: Harford MD 21005-

Landholding Agency: Army

Property Number: 21200320148

Status: Unutilized

Comment: 2140 sq. ft., most recent use—vehicle storage, off-site use only

Bldg. E5602

Aberdeen Proving Grounds

Aberdeen Co: Harford MD 21005-

Landholding Agency: Army

Property Number: 21200320149

Status: Unutilized

Comment: 283 sq. ft., most recent use—storage, off-site use only

Bldg. E5645

Aberdeen Proving Grounds

Aberdeen Co: Harford MD 21005-

Landholding Agency: Army

Property Number: 21200320150

Status: Unutilized

Comment: 548 sq. ft., most recent use—storage, off-site use only

Bldg. E7228

Aberdeen Proving Grounds

Aberdeen Co: Harford MD 21005-

Landholding Agency: Army

Property Number: 21200320151

Status: Unutilized

Comment: 441 sq. ft., off-site use only

New York

Bldg. 00002

Fort Drum

Ft. Drum Co: Jefferson NY 13602-

Landholding Agency: Army

Property Number: 21200320153

Status: Unutilized

Comment: 109 sq. ft., most recent use—storage, off-site use only

Bldg. 01235

Fort Drum

Ft. Drum Co: Jefferson NY 13602-

Landholding Agency: Army

Property Number: 21200320154

Status: Unutilized

Comment: 40 sq. ft., most recent use—dispatch bldg., off-site use only

Bldg. 02240

Fort Drum

Ft. Drum Co: Jefferson NY 13602-

Landholding Agency: Army

Property Number: 21200320155

Status: Unutilized

Comment: 120 sq. ft., most recent use—storage, off-site use only

Bldgs. 02748, 02749

Fort Drum

Ft. Drum Co: Jefferson NY 13602-

Landholding Agency: Army

Property Number: 21200320156

Status: Unutilized

Comment: 384/900 sq. ft., most recent use—vehicle storage, off-site use only

Bldgs. 22652, 22655

Fort Drum

Ft. Drum Co: Jefferson NY 13602-

Landholding Agency: Army

Property Number: 21200320157

Status: Unutilized

Comment: 70/64 sq. ft., most recent use—observation tower, off-site use only

South Dakota

95 Duplexes

Ellsworth Air Force Base

Ellsworth AFB Co: Meade SD 57706-

Landholding Agency: Air Force

Property Number: 18200320009

Status: Excess

Comment: 2355 or 2409 sq. ft. military family housing, off-site use only

, arrangements required for access for removal via adjacent privately owned lands

Texas

Bldg. 1249

Fort Bliss

El Paso Co: TX 79916-

Landholding Agency: Army

Property Number: 21200320166

Status: Unutilized

Comment: 4378 sq. ft., presence of asbestos, most recent use—storage, off-site use only

Bldg. 5000

Fort Bliss

El Paso Co: TX 79916-

Landholding Agency: Army

Property Number: 21200320167

Status: Unutilized

Comment: 16,185 sq. ft., presence of asbestos, most recent use—museum, off-site use only

Bldg. 9441

Fort Bliss

El Paso Co: TX 79916-

Landholding Agency: Army

Property Number: 21200320168

Status: Unutilized

Comment: 12,396 sq. ft., presence of asbestos, most recent use—dining, off-site use only

Bldg. 9611

Fort Bliss

El Paso Co: TX 79916-

Landholding Agency: Army

Property Number: 21200320169

Status: Unutilized

Comment: 3267 sq. ft., presence of asbestos, most recent use—admin., off-site use only

Bldg. 9692

Fort Bliss

El Paso Co: TX 79916-

Landholding Agency: Army

Property Number: 21200320170

Status: Unutilized

Comment: 239 sq. ft., most recent use—block house, off-site use only

Bldg. P2657

Fort Sam Houston

San Antonio Co: Bexar TX 78234-

Landholding Agency: Army

Property Number: 21200320171

Status: Excess

Comment: 7500 sq. ft., possible asbestos/lead paint, most recent use—lab, off-site use only

Virginia

Bldg. 18

Defense Supply Center

Richmond Co: Chesterfield VA 23875-

Landholding Agency: Army

Property Number: 21200320174

Status: Unutilized

Comment: 6962 sq. ft., most recent use—office/warehouse, off-site use only

Suitable/Unavailable Properties

Buildings (by State)

Alabama

Bldg. 24220

Fort Rucker

Fort Rucker Co: Dale AL 36362-

Landholding Agency: Army

Property Number: 21200320093

Status: Unutilized

Comment: 2128 sq. ft., needs repair, most recent use—scout bldg., off-site use only

Alaska

Bldgs. 345, 347

Ft. Richardson

Ft. Richardson Co: AK 99505-6500

Landholding Agency: Army

Property Number: 21200320094

Status: Excess

Comment: 9456 sq. ft., needs rehab, off-site use only

Bldgs. 354, 357, 359

Ft. Richardson

Ft. Richardson Co: AK 99505-6500

Landholding Agency: Army

Property Number: 21200320095

Status: Excess

Comment: 9456 sq. ft., needs rehab, off-site use only

Bldg. 368

Ft. Richardson

Ft. Richardson Co: AK 99505-6500

Landholding Agency: Army

Property Number: 21200320096

Status: Excess

Comment: 12,642 sq. ft., needs rehab, off-site use only

Bldg. 370

Ft. Richardson

Ft. Richardson Co.: AK 99505-6500

Landholding Agency: Army

Property Number: 21200320097

Status: Excess

Comment: 9456 sq. ft., needs rehab, off-site use only

Indiana

Bldg. 301

Fort Benjamin Harrison

Indianapolis Co: Marion IN 45216-

Landholding Agency: Army

Property Number: 21200320098

Status: Unutilized

Comment: 1564 sq. ft., possible asbestos/lead paint, most recent use—storage shed, off-site use only

Bldg. 302

Fort Benjamin Harrison

Indianapolis Co: Marion IN 46216-

Landholding Agency: Army

Property Number: 21200320099

Status: Unutilized

Comment: 400 sq. ft., possible asbestos/lead paint, most recent use—switch station, off-site use only

Bldg. 303

Fort Benjamin Harrison

Indianapolis Co: Marion IN 46216-

Landholding Agency: Army

Property Number: 212003200100

Status: Unutilized

Comment: 462 sq. ft., possible asbestos/lead paint, most recent use—heat plant bldg., off-site use only

Bldg. 304

Fort Benjamin Harrison

Indianapolis Co: Marion IN 46216-

Landholding Agency: Army

Property Number: 212003200101

Status: Unutilized

Comment: 896 sq. ft., possible asbestos/lead paint, most recent use—heat plant bldg., off-site use only

Bldg. 334

Fort Benjamin Harrison

Indianapolis Co: Marion IN 46216-

Landholding Agency: Army

Property Number: 2120032009102

Status: Unutilized

Comment: 652 sq. ft., possible asbestos/lead paint, off-site use only

Bldg. 337

Fort Benjamin Harrison

Indianapolis Co: Marion IN 46216-

Landholding Agency: Army

Property Number: 21200320103

Status: Unutilized

Comment: 675 sq. ft., possible asbestos/lead paint, off-site use only

Maryland

Bldg. 05257

Aberdeen Proving Grounds

Aberdeen Co: Harford MD 21005-

Landholding Agency: Army

Property Number: 21200320134

Status: Unutilized

Comment: 10,067 sq. ft., most recent use—maint shop, off-site use only

New York

Bldgs. 1501-1508

U.S. Military Academy

Training Area

Highlands Co: Orange NY 10996-

Landholding Agency: Army

Property Number: 21200320158

Status: Unutilized

Comment: 2463 sq. ft. each, needs rehab, most recent use— barracks, off-site use only

Bldgs. 1509-1510, 1519-1522

U.S. Military Academy

Highlands Co: Orange NY 10996-

Landholding Agency: Army

Property Number: 21200320159

Status: Unutilized

Comment: 2400 sq. ft. each, needs rehab, most recent use—barracks, off-site use only

Bldgs. 1511-1518

U.S. Military Academy

Training Area

Highlands Co: Orange NY 10996-

Landholding Agency: Army

Property Number: 21200320160

Status: Unutilized

Comment: 2400 sq. ft. each, needs rehab, most recent use—barracks, off-site use only

Bldgs. 1523-1526

U.S. Military Academy

Training Area

Highlands Co: Orange NY 10996-

Landholding Agency: Army

Property Number: 21200320161

Status: Unutilized

Comment: 2400 sq. ft. each, needs rehab, most recent use—barracks, off-site use only

Bldgs. 1704-1705, 1721-1722

U.S. Military Academy

Training Area

Highlands Co: Orange NY 10996-

Landholding Agency: Army

Property Number: 21200320162

Status: Unutilized

Comment: 2400 sq. ft. each, needs rehab, most recent use—barracks, off-site use only

Bldg. 1723

U.S. Military Academy

Training Area

Highlands Co: Orange NY 10996-

Landholding Agency: Army

Property Number: 21200320163

Status: Unutilized

Comment: 2400 sq. ft., needs rehab, most recent use—day room, off-site use only

Bldgs. 1706-1709

U.S. Military Academy

Training Area

Highlands Co: Orange NY 10996-

Landholding Agency: Army

Property Number: 21200320164

Status: Unutilized

Comment: 2400 sq. ft. each, needs rehab, most recent use—barracks, off-site use only

Bldgs. 1731-1735

U.S. Military Academy

Training Area

Highlands Co: Orange NY 10996-

Landholding Agency: Army

Property Number: 21200320165

Status: Unutilized

Comment: 2400 sq. ft. each, needs rehab, most recent use—barracks, off-site use only

Ohio

Bldg. 00105

Defense Supply Center

Columbus Co: Franklin OH 43216-5000

Landholding Agency: Army

Property Number: 21200320152

Status: Unutilized

Comment: 4565 sq. ft., most recent use—residential, off-site use only

Virginia

Bldg. T2827

Fort Pickett

Blackstone Co: Nottoway VA 23824-

Landholding Agency: Army

Property Number: 21200320172

Status: Unutilized

Comment: 3550 sq. ft., presence of asbestos, most recent use—dining, off-site use only

Bldg. T2841

Fort Pickett

Blackstone Co: Nottoway VA 23824-

Landholding Agency: Army

Property Number: 21200320173

Status: Unutilized

Comment: 2950 sq. ft., presence of asbestos, most recent use—dining, off-site use only

Bldg. 30

Defense Supply Center

Richmond Co: Chesterfield VA 23875-

Landholding Agency: Army

Property Number: 21200320175

Status: Unutilized

Comment: 69,000 sq. ft., presence of asbestos, most recent use—office/warehouse, off-site use only

Unsuitable Properties

Buildings (by State)

Alaska

Bldg. 7537

Elmendorf Air Force Base

Elmendorf AFB Co: AK 99506-

Landholding Agency: Air Force

Property Number: 18200320001

Status: Unutilized

Reason: Extensive deterioration

Bldg. 9340

Elmendorf Air Force Base

Elmendorf AFB Co: AK 99506-

Landholding Agency: Air Force

Property Number: 18200320002

Status: Unutilized

Reason: Extensive deterioration

Bldg. 9342

Elmendorf Air Force Base

Elmendorf AFB Co: AK 99506-

Landholding Agency: Air Force

Property Number: 18200320003

Status: Unutilized

Reason: Extensive deterioration

Bldg. 12737

Elmendorf Air Force Base

Elmendorf AFB Co: AK 99506-

Landholding Agency: Air Force

Property Number: 18200320004

Status: Unutilized

Reason: Extensive deterioration

Bldg. 13251

Elmendorf Air Force Base

Elmendorf AFB Co: AK 99506-

Landholding Agency: Air Force

Property Number: 18200320005

Status: Unutilized

Reason: Extensive deterioration

Bldg. 29453

Elmendorf Air Force Base

Elmendorf AFB Co: AK 99506-

Landholding Agency: Air Force

Property Number: 18200320006

Status: Unutilized

Reason: Extensive deterioration

California

Bldg. 2410

Edwards Air Force Base

Edwards AFB Co: Kern CA 93524-

Landholding Agency: Air Force

Property Number: 18200320007

Status: Unutilized

Reasons: Secured Area. Extensive deterioration

Indiana

Bldgs. 00143, 00144

Newport Chemical Depot

Newport Co: Vermillion IN 47966-

Landholding Agency: Army

Property Number: 21200320177

Status: Excess

Reasons: Within 2000 ft. of flammable or explosive material contamination. Secured Area

Bldgs. 00145, 00156

Newport Chemical Depot

Newport Co: Vermillion IN 47966-

Landholding Agency: Army

Property Number: 21200320178

Status: Excess

Reasons: Within 2000 ft. of flammable or explosive material contamination. Secured Area

Maine

Bldg. 499

Bangor IAP

Bangor Co: Penobscot ME 04401-

Landholding Agency: Air Force

Property Number: 18200320008

Status: Unutilized

Reasons: Within 2000 ft. of flammable or explosive material. Secured Area

Michigan

Warehouse Bldg.

U.S. Coast Guard

Charlevoix Co: MI 49720-

Landholding Agency: DOT

Property Number: 87200320002

Status: Excess

Reason: Secured Area

New York

Bldg. 184

Brookhaven National Lab

Upton Co: Suffolk NY 11973-

Landholding Agency: Energy

Property Number: 41200320004

Status: Unutilized

Reasons: Within 2000 ft of flamable or explosive material. Secured Area

Bldg. 206

Brookhaven National Lab

Upton Co: Suffolk NY 11973-

Landholding Agency: Energy

Property Number: 41200320005

Status: Unutilized

Reasons: Within 2000 ft. of flamable or explosive material. Secured Area

Bldg. 459

Brookhaven National Lab

Upton Co: Suffolk NY 11973-

Landholding Agency: Energy

Property Number: 41200320006

Status: Unutilized

Reasons: Within 2000 ft. of flammable or explosive material. Secured Area

[FR Doc. 03-12681 Filed 5-22-03; 8:45 am]

BILLING CODE 4210-29-M